DEPARTMENT OF TRANSPORTATION

Federal Aviation Administration

14 CFR Part 39

[Docket No. FAA-2016-9518; Directorate Identifier 2015-NM-091-AD]

RIN 2120-AA64

Airworthiness Directives; Airbus Airplanes

AGENCY: Federal Aviation Administration (FAA), DOT.

ACTION: Notice of proposed rulemaking (NPRM).

SUMMARY: We propose to supersede Airworthiness Directive (AD) 2013-19-09 and AD 2014-25-51, for all Airbus Model A318, A319, A320, and A321 series airplanes. AD 2013-19-09 currently requires replacing Angle of Attack (AOA) sensor conic plates with AOA sensor flat plates. AD 2014-25-51 currently requires revising the airplane flight manual (AFM) to advise the flightcrew of emergency procedures for abnormal Alpha Protection (Alpha Prot). Since we issued AD 2013-19-09 and AD 2014-25-51, we have received a report indicating that certain AOA sensors appear to have a greater susceptibility to adverse environmental conditions. This proposed AD would require replacing certain AOA sensors; and doing a detailed inspection and a functional heating test for discrepancies on certain AOA sensors, and replacing the affected AOA sensors. We are proposing this AD to address the unsafe condition on these products.

DATES: We must receive comments on this proposed AD by February 13, 2017.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For Airbus service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9518; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-9518; Directorate Identifier 2015-NM-091-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 8, 2013, we issued AD 2013-06-03, Amendment 39-17399 (78 FR 19085, March 29, 2013) (“AD 2013-06-03”) for all Airbus Model A318, A319, A320, and A321 series airplanes. AD 2013-06-03 was prompted by reports of oil residue between the stator and the rotor parts of the position resolvers of the AOA vane, which was a result of incorrect removal of the machining oil during the manufacturing process of the AOA resolvers. AD 2013-06-03 requires an inspection to determine if certain AOA probes are installed, and replacement of any affected AOA probe. We issued AD 2013-06-03 to prevent erroneous AOA information and consequent delayed or non-activation of the AOA protection systems, which during flight at a high AOA, could result in reduced control of the airplane.

On September 13, 2013, we issued AD 2013-19-09, Amendment 39-17591 (78 FR 60667, October 2, 2013) (“AD 2013-19-09”) for all Airbus Model A318, A319, A320, and A321 series airplanes. AD 2013-19-09 was prompted by a determination that replacement of AOA sensor conic plates is necessary to address the identified unsafe condition. AD 2013-19-09 requires replacing AOA sensor conic plates with AOA sensor flat plates, and subsequent removal of an AFM revision. We issued AD 2013-19-09 to prevent reduced control of the airplane.

On January 7, 2015, we issued AD 2014-25-51, Amendment 39-18067 (80 FR 3153, January 22, 2015) (“AD 2014-25-51”) for all Airbus Model A318, A319, A320, and A321 series airplanes. AD 2014-25-51 was prompted by a report of AOA probes jamming on an in-service Airbus Model A321 airplane. AD 2014-25-51 requires revising the AFM to advise the flight crew of emergency procedures for abnormal Alpha Prot. We issued AD 2014-25-51 to ensure that the flightcrew has procedures to counteract the pitch down order due to abnormal activation of the Alpha Prot. An abnormal Alpha Prot, if not corrected, could result in loss of control of the airplane.

Since we issued AD 2013-06-03, AD 2013-19-09, and AD 2014-25-51, we have received a report indicating that certain AOA sensors appear to have a greater susceptibility to adverse environmental conditions. It has been determined that replacement of certain AOA sensors is necessary to address the unsafe condition on these airplanes.

The European Aviation Safety Agency (EASA), which is the Technical Agent for the Member States of the European Union, has issued EASA Airworthiness Directive 2015-0135, dated July 8, 2015 (referred to after this as the Mandatory Continuing Airworthiness Information, or “the MCAI”), to correct an unsafe condition for all Airbus Model A318, A319, A320, and A321 series airplanes. The MCAI states:

An occurrence was reported where an Airbus A321 aeroplane encountered a blockage of two Angle of Attack (AOA) probes during climb, leading to activation of the Alpha Protection (Alpha Prot) while the Mach number increased. The flight crew managed to regain full control and the flight landed uneventfully.

When Alpha Prot is activated due to blocked AOA probes, the flight control laws order a continuous nose down pitch rate that, in a worst case scenario, cannot be stopped with backward sidestick inputs, even in the full backward position. If the Mach number increases during a nose down order, the AOA value of the Alpha Prot will continue to decrease. As a result, the flight control laws will continue to order a nose down pitch rate, even if the speed is above minimum selectable speed, known as VLS.

This condition, if not corrected, could result in loss of control of the airplane.

Investigation results indicated that A320 family airplanes equipped with certain UTC Aerospace (UTAS, formerly known as Goodrich) AOA sensors, or equipped with certain SEXTANT/THOMSON AOA sensors, appear to have a greater susceptibility to adverse environmental conditions than airplanes equipped with the latest Thales AOA sensor, Part Number (P/N) C16291AB, which was designed to improve A320 airplane AOA indication behaviour in heavy rain conditions.

Having determined that replacement of these AOA sensors is necessary to achieve and maintain the required safety level of the airplane, EASA issued AD 2015-0087, retaining the requirements of EASA AD 2012-0236R1 [which corresponds to FAA AD 2013-06-03], [EASA] AD 2013-0022 (partially) [which corresponds to FAA AD 2013-19-09], and [EASA] AD 2014-0266-E [which corresponds to FAA AD 2014-25-51], which were superseded, and requiring modification of the airplanes by replacement of the affected P/N sensors, and, after modification, prohibiting (re-)installation of those P/N AOA sensors. That [EASA] AD also required repetitive detailed visual inspections (DET) and functional heating tests of certain Thales AOA sensors and provided an optional terminating action for those inspections.

Since EASA AD 2015-0087 was issued, based on further analysis results, Airbus issued Operators Information Transmission (OIT) Ref. 999.0015/15 Revision 1, instructing operators to speed up the removal from service of UTAS P/N 0861ED2 AOA sensors.

For the reasons described above, this [EASA] AD retains the requirements of EASA AD 2015-0087, which is superseded, but reduces the compliance times for airplanes with UTAS P/N 0861ED2 AOA sensors installed.

You may examine the MCAI in the AD docket on the Internet at http://www.regulations.gov by searching for and locating Docket No. FAA-2016-9518.

Related Service Information Under 1 CFR Part 51

Airbus has issued the following service information:

• Service Bulletin A320-34-1415, Revision 03, dated July 8, 2010. This service information describes procedures for a detailed inspection and a functional heating test for discrepancies on certain AOA sensors, and replacing the affected AOA sensors.

• Service Bulletin A320-34-1444, Revision 01, dated March 17, 2011. This service information describes procedures for replacing certain SEXTANT/THOMSON AOA sensors.

• Service Bulletin A320-34-1610, dated March 31, 2015. This service information describes procedures for replacing certain UTAS AOA sensors.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The requirements specified in paragraphs (1), (2), (3), and (4) of the MCAI correspond to the requirements of AD 2013-06-03. We have determined that leaving AD 2013-06-03 as a stand-alone AD provides better clarification of the actions instead of superseding AD 2013-06-03 as part of this proposed AD.

Costs of Compliance

We estimate that this proposed AD affects 959 airplanes of U.S. registry.

The actions required by AD 2013-19-09, and retained in this proposed AD take about 8 work-hours per product, at an average labor rate of $85 per work-hour. Required parts cost about $0 per product. Based on these figures, the estimated cost of the actions that are required by AD 2013-19-09 is $680 per product.

The actions required by AD 2014-25-51, and retained in this proposed AD take about 1 work-hour per product, at an average labor rate of $85 per work-hour. Required parts cost about $0 per product. Based on these figures, the estimated cost of the actions that are required by AD 2014-25-51 is $85 per product.

We also estimate that it would take about 5 work-hours per product to comply with the basic requirements of this proposed AD. The average labor rate is $85 per work-hour. The parts cost is not available. Based on these figures, we estimate the cost of this proposed AD on U.S. operators to be at least $407,575, or $425 per product.

In addition, we estimate that any necessary follow-on actions would take about 5 work-hours. The parts cost is not available. We have no way of determining the number of aircraft that might need these actions.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-19-09, Amendment 39-17591 (78 FR 60667, October 2, 2013), and AD 2014-25-51, Amendment 39-18067 (80 FR 3153, January 22, 2015), and adding the following new AD:

Airbus: Docket No. FAA-2016-9518; Directorate Identifier 2015-NM-091-AD.

(a) Comments Due Date

We must receive comments by February 13, 2017.

(b) Affected ADs

(1) This AD replaces AD 2013-19-09, Amendment 39-17591 (78 FR 60667, October 2, 2013) (“AD 2013-19-09”), and AD 2014-25-51, Amendment 39-18067 (80 FR 3153, January 22, 2015) (“AD 2014-25-51”).

(2) This AD affects AD 2013-06-03, Amendment 39-17399 (78 FR 19085, March 29, 2013) (“AD 2013-06-03”).

(c) Applicability

This AD applies to the Airbus airplanes listed in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 34, Navigation.

(e) Reason

This AD was prompted by a report indicating that an Airbus Model A321 airplane encountered a blockage of two Angle of Attack (AOA) probes during climb, leading to activation of the Alpha Protection (Alpha Prot) while the Mach number increased. We are issuing this AD to prevent a pitch down order due to abnormal activation of the Alpha Prot. An abnormal Alpha Prot, if not corrected, could result in loss of control of the airplane.

(f) Compliance

Comply with this AD within the compliance times specified, unless already done.

(g) Retained New Flat Plate Installation, With Removed Post-Installation Requirement and With Specific Delegation Approval Language

This paragraph restates the requirements of paragraph (j) of AD 2013-19-09, with removed post-installation requirement and with specific delegation approval language. Within 5 months after November 6, 2013 (the effective date of AD 2013-19-09), remove all AOA sensor conic plates having part number (P/N) F3411060200000 or P/N F3411060900000 and install AOA sensor flat plates having part numbers specified in paragraph (g)(1) or (g)(2) of this AD, except as specified in paragraph (h) of this AD. Install the AOA sensor plates in accordance with the applicable method specified in paragraph (g)(1) or (g)(2) of this AD.

(1) Install P/N D3411013520200 in accordance with the Accomplishment Instructions of Airbus Mandatory Service Bulletin A320-34-1564, including Appendix 01, dated January 25, 2013.

(2) Install P/N D3411007620000 or P/N D3411013520000, using a method approved by the Manager, International Branch, ANM-116, Transport Airplane Directorate, FAA; or the European Aviation Safety Agency (EASA); or Airbus's EASA Design Organization Approval (DOA).

(h) Retained Exception, With No Changes

This paragraph restates the exception provided by paragraph (k) of AD 2013-19-09, with no changes. An airplane on which Airbus modification 154863 (installation of AOA sensor flat plate) and modification 154864 (coating protection) have been embodied in production is not affected by the requirements of paragraph (g) of this AD, provided that, since first flight, no AOA sensor conic plate having P/N F3411060200000 or P/N F3411060900000 has been installed on that airplane.

(i) Retained Parts Installation Prohibition, With No Changes

This paragraph restates the requirements of paragraph (m) of AD 2013-19-09, with no changes.

(1) For any airplane that has AOA sensor flat plates installed: As of November 6, 2013 (the effective date of AD 2013-19-09), do not install any AOA sensor conic plate having P/N F3411060200000 or P/N F3411060900000, and do not use any AOA protection cover having P/N 98D34203003000.

(2) For any airplane that has AOA sensor conic plates installed: As of November 6, 2013 (the effective date of AD 2013-19-09), after modification of the airplane as required by paragraph (g) of this AD, do not install any AOA sensor conic plate having P/N F3411060200000 or P/N F3411060900000, and do not use any AOA protection cover having P/N 98D34203003000.

(j) Retained Revision of Airplane Flight Manual (AFM), With No Changes

This paragraph restates the requirements of paragraph (g) of AD 2014-25-51, with no changes. Within 2 days after February 6, 2015 (the effective date of AD 2014-25-51), revise the AFM to incorporate procedures to address undue activation of Alpha Prot by inserting the text specified in figure 1 to paragraph (j) of this AD into the Emergency Procedures section of the applicable AFM, to advise the flight crew of emergency procedures for abnormal Alpha Prot. This may be accomplished by inserting a copy of this AD into the AFM. When a statement identical to the text specified in figure 1 to paragraph (j) of this AD is included in the general revisions of the AFM, the general revisions may be inserted in the AFM, and the text specified in figure 1 to paragraph (j) of this AD may be removed.

(k) New Requirement of This AD: Replacement of Certain UTAS (formerly Goodrich) AOA Sensors

For airplanes on which any UTAS AOA sensor, P/N 0861ED or P/N 0861ED2, is installed: Within the applicable compliance times specified in paragraphs (k)(1), (k)(2), (k)(3), and (k)(4) of this AD, replace the affected Captain and First Officer AOA sensors with Thales AOA sensors, P/N C16291AB, in accordance with the Accomplishment Instructions of Airbus Service Bulletin A320-34-1610, dated March 31, 2015.

(1) For Model A318 and A321 series airplanes on which any UTAS AOA sensor, P/N 0861ED, is installed: Replace within 7 months after the effective date of this AD.

(2) For Model A319 and A320 series airplanes on which any UTAS AOA sensor, P/N 0861ED, is installed: Replace within 22 months after the effective date of this AD.

(3) For Model A318 and A321 series airplanes on which any UTAS AOA sensor, P/N 0861ED2, is installed: Replace within 4 months after the effective date of this AD.

(4) For Model A319 and A320 series airplanes on which any UTAS AOA sensor, P/N 0861ED2, is installed: Replace within 7 months after the effective date of this AD.

(l) New Requirement of This AD: Replacement of Certain SEXTANT/THOMSON AOA Sensors

For airplanes on which any SEXTANT/THOMSON AOA sensor, P/N 45150320 or P/N 16990568, is installed: Within the applicable compliance time specified in paragraph (l)(1) or (l)(2) of this AD, replace each SEXTANT/THOMSON AOA sensor, P/N 45150320 and P/N 16990568, with a Thales AOA sensor, P/N C16291AB, in accordance with the Accomplishment Instructions of Airbus Service Bulletin A320-34-1444, Revision 01, dated March 17, 2011; except AOA sensors modified in accordance with the Accomplishment Instructions of Thales Avionics Service Bulletin C16291A-34-009, dated September 10, 2009, cannot be used for the replacement.

(1) For Model A318 and A321 series airplanes on which any SEXTANT/THOMSON AOA sensor, P/N 45150320 or P/N 16990568, is installed: Replace within 7 months after the effective date of this AD.

(2) For Model A319 and A320 series airplanes on which any SEXTANT/THOMSON AOA sensor, P/N 45150320 or P/N 16990568, is installed: Replace within 22 months after the effective date of this AD.

(m) New Requirement of This AD: Functional Heating Test, and Corrective Action for Certain AOA Sensors

For an airplane on which any Thales AOA sensor, P/N C16291AA, is installed: Before exceeding 5,200 flight hours accumulated by each affected Thales AOA sensor since its first installation on an airplane, or within 6 months after the effective date of this AD, whichever occurs later, do a functional heating test of each AOA sensor, P/N C16291AA, to determine the maximum current (Imax) value, in accordance with the Accomplishment Instructions of Airbus Service Bulletin A320-34-1415, Revision 03, dated July 8, 2010. If, during any functional heating test, any Imax value is below the flow chart value as specified in Airbus Service Bulletin A320-34-1415, Revision 03, dated July 8, 2010, before further flight, replace each discrepant AOA sensor with a sensor identified in paragraph (m)(1) or (m)(2) of this AD, in accordance with the Accomplishment Instructions of Airbus Service Bulletin A320-34-1415, Revision 03, dated July 8, 2010. Repeat the functional heating test thereafter at intervals not to exceed 2,000 flight hours.

(1) Replace with a Thales AOA sensor, P/N C16291AA, that has passed a functional heating test as specified in the Accomplishment Instructions of Airbus Service Bulletin A320-34-1415, Revision 03, July 8, 2010.

(2) Replace with a Thales AOA sensor, P/N C16291AB, except AOA sensors modified as specified in Thales Avionics Service Bulletin C16291A-34-009, dated September 10, 2009, cannot be used for the replacement.

(n) Optional Terminating Action

Modification of an airplane by replacing each Thales P/N C16291AA AOA sensor with a Thales P/N C16291AB AOA sensor, in accordance with the Accomplishment Instructions of Airbus Service Bulletin A320-34-1444, Revision 01, dated March 17, 2011, terminates the repetitive functional heating tests required in paragraph (m) of this AD for that airplane; except AOA sensors modified in accordance with the Accomplishment Instructions of Thales Avionics Service Bulletin C16291A-34-009, dated September 10, 2009, cannot be used for the replacement.

(o) New Provisions of This AD: Airplanes Not Affected

An airplane with Airbus modification 150006 (installation of Thales P/N C16291AB AOA sensors), but without modification 26934 (installation of UTAS P/N 0861ED AOA sensors) embodied in production, is not affected by the requirements of paragraphs (k), (l), and (m) of this AD, provided it is determined that no AOA sensor having SEXTANT/THOMSON P/N 45150320 or 16990568, or UTAS P/N 0861ED or 0861ED2, has been installed on that airplane since its date of manufacture.

(p) New Requirement of This AD: Parts Installation Prohibitions

(1) As of the effective date of this AD: For an airplane on which only Thales AOA sensors, P/N C16291AB, are installed, do not install a Thales AOA sensor, P/N C16291AA, on that airplane. This parts installation prohibition terminates the requirements of paragraph (i)(1) of AD 2013-06-03, for the airplanes identified in this paragraph.

(2) As of the effective date of this AD: For an airplane on which any combination of Thales AOA sensors, P/N C16291AA and Thales P/N C16291AB, are installed, do not install any SEXTANT/THOMSON AOA sensor, P/N 45150320 or 16990568, or UTAS AOA sensor, P/N 0861ED or 0861ED2, on that airplane.

(3) After modification of an airplane as required by paragraph (k) of this AD, do not install any AOA sensor with a part number specified in paragraphs (p)(3)(i) and (p)(3)(ii) of this AD on that airplane, with the exception that installation of a UTAS P/N 0861ED AOA sensor is allowed in the standby position of that airplane.

(i) SEXTANT/THOMSON AOA sensors, P/N 45150320 and P/N 16990568.

(ii) UTAS AOA sensors, P/N 0861ED and P/N 0861ED2.

(q) Credit for Previous Actions

This paragraph provides credit for the actions required by paragraph (l) of this AD, if those actions were performed before the effective date of this AD using Airbus Service Bulletin A320-34-1444, dated October 7, 2009; provided the replacement AOA sensors were not modified as specified in Thales Avionics Service Bulletin C16291A-34-009, dated September 10, 2009.

(r) Acceptable Parts

Installation of a version (part number) of an AOA sensor approved after the effective date of this AD is an approved method of compliance with the requirements of paragraph (k), (l), or (m) of this AD, as applicable, provided the requirements specified in paragraphs (r)(1) and (r)(2) of this AD are met.

(1) The version (part number) must be approved by the Manager, International Branch, ANM-116, Transport Airplane Directorate, FAA; or EASA; or Airbus's EASA DOA.

(2) The installation must be accomplished using a method approved by the Manager, International Branch, ANM-116, Transport Airplane Directorate, FAA; or EASA; or Airbus's EASA DOA.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office.

(ii) AMOCs approved previously for AD 2013-19-09, are approved as AMOCs for the corresponding provisions of paragraphs (g), (h), (i), and (t)(1) of this AD.

(iii) AMOCs approved previously for AD 2014-25-51, are approved as AMOCs for the corresponding provisions of paragraph (j) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(t) Retained Special Flight Permits

(1) For AD 2013-19-09, Amendment 39-17591 (78 FR 60667, October 2, 2013): Special flight permits may be issued in accordance with sections 21.197 and 21.199 of the Federal Aviation Regulations (14 CFR 21.197 and 21.199) to operate the airplane to a location where the airplane can be modified (if the operator elects to do so), provided Airbus A318/A319/A320/A321 TR TR286, Issue 1.0, dated December 17, 2012, has been inserted into the Emergency Procedures of the Airbus A318/A319/A320/A321 AFM.

(2) For AD 2014-25-51, Amendment 39-18067 (80 FR 3153, January 22, 2015): Special flight permits may be issued in accordance with sections 21.197 and 21.199 of the Federal Aviation Regulations (14 CFR 21.197 and 21.199) to operate the airplane to a location where the airplane can be modified (if the operator elects to do so), provided the revision required by paragraph (j) of this AD has been done.

(u) Related Information

(1) Refer to Mandatory Continuing Airworthiness Information (MCAI) EASA Airworthiness Directive 2015-0135, dated July 8, 2015, for related information. This MCAI may be found in the AD docket on the Internet at http://www.regulations.gov by searching for and locating Docket No. FAA-2016-9518.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on December 8, 2016.
Dionne Palermo,
Acting Manager, Transport Airplane Directorate, Aircraft Certification Service.

[FR Doc. 2016-30610 Filed 12-27-16; 8:45 am]

BILLING CODE 4910-13-P